DEPARTMENT OF COMMERCE

National Oceanic and Atmospheric Administration

[RTID 0648-XD181]

Caribbean Fishery Management Council; Public Meeting

AGENCY: National Marine Fisheries Service (NMFS), National Oceanic and Atmospheric Administration (NOAA), Commerce.

ACTION: Notice of public hybrid meeting (in-person/virtual).

SUMMARY: The Caribbean Fishery Management Council (CFMC) will hold its 182nd public hybrid meeting to address the items contained in the tentative agenda included in the SUPPLEMENTARY INFORMATION.

DATES: The 182nd CFMC public hybrid meeting will be held on August 15, 2023, from 9 a.m. to 5 p.m., and on August 16, 2023, from 9 a.m. to 5 p.m., AST.

ADDRESSES: The meeting will be held at the Embassy Suites Hotel, Tartak Street, Carolina, Puerto Rico 00979.

You may join the 182nd CFMC public hybrid meeting via Zoom, from a computer, tablet, or smartphone by entering the following address:

Join Zoom Meeting: https://us02web.zoom.us/j/83060685915?pwd=VmVsc1orSUtKck8xYk1XOXNDY1ErZz09.

Meeting ID: 830 6068 5915.

Passcode: 995658.

One tap mobile:

+17879451488,,83060685915#,,,,,,0#,,995658# Puerto Rico

+17879667727,,83060685915#,,,,,,0#,,995658# Puerto Rico

Dial by your location:

+1 787 945 1488 Puerto Rico

+1 787 966 7727 Puerto Rico

+1 939 945 0244 Puerto Rico

Meeting ID: 830 6068 5915.

Passcode: 995658.

In case there are problems, and we cannot reconnect via Zoom, the meeting will continue using GoToMeeting.

You can join the meeting from your computer, tablet, or smartphone. https://global.gotomeeting.com/join/971749317. You can also dial in using your phone. United States: +1 (408) 650-3123 Access Code: 971-749-317.

FOR FURTHER INFORMATION CONTACT: Miguel A. Rolón, Executive Director, Caribbean Fishery Management Council, 270 Muñoz Rivera Avenue, Suite 401, San Juan, Puerto Rico 00918-1903; telephone: (787) 398-3717.

SUPPLEMENTARY INFORMATION: The following items included in the tentative agenda will be discussed:

August 15, 2023

9 a.m.-10 a.m.

—Call to Order

—Roll Call

—Election of Officials

—Adoption of Agenda

—Consideration of 181st Council Meeting Verbatim Transcriptions

—Executive Director's Report

10 a.m.-10:30 a.m.

—Approval of the Southeast Data, Assessment, and Review (SEDAR) 91 Caribbean Spiny Lobster Terms of Reference

—Fishery Management Plans Amendments and Actions Updates—María López-Mercer, NOAA Fisheries

10:30 a.m.-10:45 a.m.

—Break

10:45 a.m.—12 p.m.

—Final Action for Framework Amendment 2 to the Island-Based FMPs: Updates to the Spiny Lobster Overfishing Limit, Acceptable Biological Catch, and Annual Catch Limit—Sarah Stephenson, NOAA Fisheries

—Review and Final Action for Amendment 2 to the Island-Based FMPs: Trawl and Net Gear and Descending Devices—María López-Mercer, NOAA Fisheries

12 p.m.-1:30 p.m.

—Lunch

1:30 p.m.-2:30 p.m.

—Review Draft Amendment 3 to the Island-Based FMPs: Management Measures for Dolphin and Wahoo—Sarah Stephenson, NOAA Fisheries

2:30 p.m.-3 p.m.

—Scientific and Statistical Committee Report—Vance Vicente, Chair

—Ecosystem-Based Fisheries Management Technical Advisory Panel Report—Sennai Habtes, Chair

3 p.m.-3:30 p.m.

—Southeast Fishery Science Center Updates—Kevin McCarthy, NOAA Fisheries

3:30 p.m.-3:45 p.m.

—Break

3:45 p.m.-4:30 p.m.

—District Advisory Panel Reports (15 mins each)

—St. Thomas, U.S.V.I.—Julian Magras, Chair

—St. Croix, U.S.V.I.—Gerson Martinez, Chair

—Puerto Rico—Nelson Crespo, Chair

4:30 p.m.-5 p.m.

—Public Comment Period (5-minute presentations)

5 p.m.

—Adjourn for the day

August 16, 2023

9 a.m.-9:15 a.m.

—Call to Order

—Roll Call

9:15 a.m.-9:45 a.m.

—Highly Migratory Species Atlantic Actions Update—Ann Williamson, NOAA Fisheries

9:45 a.m.-10:15 a.m.

—Update on Western Central Atlantic Dolphinfish Fishery—Wessley Merten

10:15 a.m.-10:30 a.m.

—Break

10:30 a.m.-11:30 a.m.

—Outreach and Education Report—Alida Ortiz, Chair

—CFMC Liaison Officers Reports (10 minutes each)

—St. Croix, U.S.V.I.—Liandry De La Cruz

—St. Thomas/St. John, U.S.V.I.—Nicole Greaux

—Puerto Rico—Wilson Santiago

11:30 a.m.-12 p.m.

Big Fish Campaign Update—Ana Salceda

12 p.m.-1:30 p.m.

—Lunch

1:30 p.m.-2:15 p.m.

—Lionfish Market Presentation on National/International Projects—Phil Karp

—Puerto Rico Activities on Lionfish Marketing—Jannette Ramos, Sea Grant Puerto Rico 2:15 p.m.—2:30 p.m.

—NOAA Fisheries' Equity and Environmental Justice (EEJ) Strategy Update—NOAA Fisheries

2:30 p.m.-3 p.m.

—Protected Resources Updates on the Island-Based Fishery Management Plans Biological Opinion and Endangered Species Act Rules—Jennifer Lee, NOAA Fisheries

3 p.m.-3:30 p.m.

—Grammanik Bank and MCD Present Regulations for the Protection of Spawning Aggregations of Nassau grouper and Other Species—Graciela García-Moliner

—St. Thomas/St. John's Fishers Perspective on Recommendations for New Guidelines for Protection to the Nassau grouper in U.S.V.I. Fishery Spawning Aggregation Sites—Ruth Gomez—St. Thomas Fisherman's Association

3:30 p.m.-3:45 p.m.

—Break

3:45 p.m.-4:25 p.m.

—Enforcement Reports (10 minutes each):

—Puerto Rico DNER

—U.S.V.I. DPNR

—U.S. Coast Guard

—NOAA Fisheries Office of Law Enforcement

4:25 p.m.-5 p.m.

—Other Business

—Public Comment Period (5-minute presentations)

—Next Meeting

5 p.m.

—Adjourn

Note (1): Other than starting time and dates of the meetings, the established times for addressing items on the agenda may be adjusted as necessary to accommodate the timely completion of discussion relevant to the agenda items. To further accommodate discussion and completion of all items on the agenda, the meeting may be extended from, or completed prior to the date established in this notice. Changes in the agenda will be posted to the CFMC website, Facebook, Twitter and Instagram as practicable.

Note (2): Financial disclosure forms are available for inspection at this meeting, as per 50 CFR part 601.

The order of business may be adjusted as necessary to accommodate the completion of agenda items. The meeting will begin on August 15, 2023, at 9 a.m. AST, and will end on August 16, 2023, at 5 p.m. AST. Other than the start time on the first day of the meeting, interested parties should be aware that discussions may start earlier or later than indicated in the agenda, at the discretion of the Chair.

Special Accommodations

Simultaneous interpretation will be provided.

For simultaneous interpretation English-Spanish-English follow your Zoom screen instructions. You will be asked which language you prefer when you join the meeting.

For any additional information on this public virtual meeting, please contact Diana Martino, Caribbean Fishery Management Council, 270 Muñoz Rivera Avenue, Suite 401, San Juan, Puerto Rico 00918-1903, telephone: (787) 226-8849.

Authority: 16 U.S.C. 1801 et seq.

Dated: July 24, 2023.
Rey Israel Marquez,
Acting Deputy Director, Office of Sustainable Fisheries, National Marine Fisheries Service.

[FR Doc. 2023-15971 Filed 7-27-23; 8:45 am]

BILLING CODE 3510-22-P